NUCLEAR REGULATORY COMMISSION

10 CFR Part 72

RIN 3150-AH63

List of Approved Spent Fuel Storage Casks: NUHOMS®-24PT4 Revision (Amendment 1), Confirmation of Effective Date

AGENCY: Nuclear Regulatory Commission.

ACTION: Direct final rule: Confirmation of effective date.

SUMMARY: The Nuclear Regulatory Commission (NRC) is confirming the effective date of May 16, 2005, for the direct final rule that was published in the Federal Register on February 28, 2005 (70 FR 9501). This direct final rule amended the NRC's regulations to revise the Standardized Advanced NUHOMS® System listing to include Amendment No. 1 to Certificate of Compliance Number (CoC No.) 1029.

DATES: Effective Date: The effective date of May 16, 2005, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219, e-mail jmm2@nrc.gov.

SUPPLEMENTARY INFORMATION: On February 28, 2005 (70 FR 9501), the NRC published a direct final rule amending its regulations in 10 CFR Part 72 to revise the Standardized Advanced NUHOMS® System listing within the “List of Approved Spent Fuel Storage Casks” to include Amendment No. 1 to CoC No. 1029. This amendment adds another Dry Shielded Canister, designated NUHOMS®-24PT4, to the authorized contents of the Standardized Advanced NUHOMS® System. Also, the rule was amended to correct a typographical error that incorrectly stated the expiration date of the CoC. In the direct final rule, NRC stated that if no significant adverse comments were received, the direct final rule would become final on May 16, 2005. The NRC did not receive any comments on the direct final rule. Therefore, this rule will become effective as scheduled.

Dated at Rockville, Maryland, this 27th day of April, 2005.
For the Nuclear Regulatory Commission.
Michael T. Lesar,
Chief, Rules and Directives Branch, Division of Administrative Services, Office of Administration.

[FR Doc. 05-8759 Filed 5-2-05; 8:45 am]

BILLING CODE 7590-01-P